DEPARTMENT OF EDUCATION

[Docket No.: ED-2018-ICCD-0001]

Agency Information Collection Activities; Submission to the Office of Management and Budget for Review and Approval; Comment Request; Impact Evaluation of Departmentalized Instruction in Elementary Schools

Correction

In notice document 2018-05258 beginning on page 11510 in the issue of Thursday, March 15, 2018, make the following correction:

On page 11510, in the first column, in the DATES heading, the second line, “May 14, 2018” should read “April 16, 2018”.

[FR Doc. C1-2018-05258 Filed 3-21-18; 8:45 am]

BILLING CODE 1301-00-D